GENERAL SERVICES ADMINISTRATION

41 CFR Part 102-74

[Notice-MA-2016-05; Docket No. 2016-0002; Sequence 19]

Federal Management Regulation; Nondiscrimination Clarification in the Federal Workplace; Correction

AGENCY: Office of Government-wide Policy (OGP), General Services Administration (GSA).

ACTION: Issuance of bulletin; Correction.

SUMMARY: GSA published a document in the Federal Register on August 18, 2016 at 81 FR 55148, regarding Nondiscrimination Clarification in the Federal Workplace. GSA is making an editorial change to correct the incorrect CFR part listed in the header.

DATES: Effective: September 14, 2016.

FOR FURTHER INFORMATION CONTACT: Mr. Dennis Oden, Director, Civil Rights Programs Division (AKB), Office of Civil Rights, 202-417-5711. Please cite Notice-MA-2016-05; Correction.

SUPPLEMENTARY INFORMATION:

Correction

In FR Doc. 2016-19450 published in the Federal Register at 81 FR 55148, August 18, 2016, make the following correction:

On page 55148, in the first column, third line of the header, remove “41 CFR part 74” and add “41 CFR part 102-74” in its place.

Dated: September 9, 2016.
Hada Flowers,
Federal Register Liaison, Division Director, Regulatory Secretariat Division, Office of Government-wide Acquisition Policy, Office of Acquisition Policy.

[FR Doc. 2016-22063 Filed 9-13-16; 8:45 am]

BILLING CODE 6820-14-P